NATIONAL ARCHIVES AND RECORDS ADMINISTRATION

[NARA-2020-037]

Agency Information Collection Activities: Submission for OMB Review; Comment Request

AGENCY: National Archives and Records Administration (NARA).

ACTION: Notice.

SUMMARY: We are proposing to renew the information collection described in this notice and have submitted it to OMB for approval. We invite you to comment on this proposed collection.

DATES: OMB must receive written comments on or before May 22, 2020.

ADDRESSES: Submit written comments and recommendations for the proposed information collection at www.reginfo.gov/public/do/PRAMain. You can find this particular information collection by selecting “Currently under 30-day Review—Open for Public Comments” or by using the search function.

FOR FURTHER INFORMATION CONTACT: Tamee Fechhelm, by telephone at 301.837.1694 or by fax at 301.713.7409, with requests for additional information or copies of the proposed information collection and supporting statement.

SUPPLEMENTARY INFORMATION: Pursuant to the Paperwork Reduction Act of 1995 (Pub. L. 104-13), we invite the public and other Federal agencies to comment on proposed information collections. We published a notice of proposed collection for this information collection on February 11, 2020 (85 FR 7785) and we received no comments. We have therefore submitted the described information collection to OMB for approval to renew.

Any comments or suggestions you submit should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether the collection affects small businesses. All comments will become a matter of public record.

In this notice, we solicit comments concerning the following information collection:

Title: Application and permit for use of space in Presidential library and grounds.

OMB Number: 3095-0024.

Agency Form Number: NA Form 16011.

Type of Review: Regular.

Affected Public: Private organizations.

Estimated Number of Respondents: 600.

Estimated Time per Response: 20 minutes.

Frequency of Response: On occasion.

Estimated Total Annual Burden Hours: 200 hours.

Abstract: The information collection is prescribed by 36 CFR 1280. Requesters submit the application to request the use of space in a Presidential library for a privately sponsored activity. We use the information to determine whether the requested use meets the criteria in 36 CFR 1280 and to schedule the date.

Swarnali Haldar,
Executive for Information Services/CIO.

[FR Doc. 2020-08464 Filed 4-21-20; 8:45 am]

BILLING CODE 7515-01-P